DEPARTMENT OF ENERGY

Federal Energy Regulatory Commission

Combined Notice of Filings #1

Take notice that the Commission received the following electric corporate filings:

Docket Numbers: EC21-13-000.

Applicants: SunE Beacon Site 2 LLC, SunE Beacon Site 5 LLC.

Description: Application for Authorization Under Section 203 of the Federal Power Act, et al. of SunE Beacon Site 2 LLC, et al.

Filed Date: 10/27/20.

Accession Number: 20201027-5025.

Comments Due: 5 p.m. ET 11/17/20.

Take notice that the Commission received the following electric rate filings:

Docket Numbers: ER10-1276-012; ER10-1292-001; ER10-1287-011; ER10-1303-001; ER10-1319-013; ER10-1353-013; ER18-1183-004; ER18-1184-004.

Applicants: Consumers Energy Company, CMS Energy Resource Management Company, Grayling Generation Station Limited Partnership, CMS Generation Michigan Power, L.L.C., Dearborn Industrial Generation, L.L.C., Delta Solar Power I, LLC, Delta Solar Power II, LLC.

Description: Notice of Non-Material Change-In-Status of Consumer Energy Company, et al.

Filed Date: 10/27/20.

Accession Number: 20201027-5126.

Comments Due: 5 p.m. ET 11/17/20.

Docket Numbers: ER10-1285-011.

Applicants: Craven County Wood Energy Limited Partnership.

Description: Notice of Non-Material Change-In-Status of Craven County Wood Energy Limited Partnership.

Filed Date: 10/27/20.

Accession Number: 20201027-5132.

Comments Due: 5 p.m. ET 11/17/20.

Docket Numbers: ER10-2881-035; ER10-2882-036; ER10-2883-034; ER10-2884-034; ER16-2509-005; ER17-2400-006; ER17-2401-006; ER17-2403-006; ER17-2404-006.

Applicants: Alabama Power Company, Southern Power Company, Mississippi Power Co., Georgia Power Co., Rutherford Farm, LLC, SP Butler Solar, LLC, SP Decatur Parkway Solar, LLC, SP Pawpaw Solar, LLC, SP Sandhills Solar, LLC.

Description: Amendment to June 30, 2020 Updated Market Power Analysis for the Southeast Region of Alabama Power Company, et al.

Filed Date: 10/22/20.

Accession Number: 20201022-5177.

Comments Due: 5 p.m. ET 11/12/20.

Docket Numbers: ER18-1150-004.

Applicants: Northwest Ohio Wind, LLC.

Description: Notice of Non-Material Change-In-Status of Northwest Ohio Wind, LLC.

Filed Date: 10/27/20.

Accession Number: 20201027-5136.

Comments Due: 5 p.m. ET 11/17/20.

Docket Numbers: ER21-213-000.

Applicants: Public Service Company of Colorado.

Description: § 205(d) Rate Filing: PSC-PTZLGN-LGIA-196-0.0.0-Agrmt to be effective 10/15/2020.

Filed Date: 10/26/20.

Accession Number: 20201026-5139.

Comments Due: 5 p.m. ET 11/16/20.

Docket Numbers: ER21-214-000.

Applicants: Baltimore Gas and Electric Company, PJM Interconnection, L.L.C.

Description: § 205(d) Rate Filing: BGE submits Revisions to PJM Tariff, Attachment H-2A and H-2B to be effective 1/1/2021.

Filed Date: 10/26/20.

Accession Number: 20201026-5147.

Comments Due: 5 p.m. ET 11/16/20.

Docket Numbers: ER21-215-000.

Applicants: Deseret Generation & Transmission Co-operative, Inc.

Description: § 205(d) Rate Filing: 2020 RIA Annual Update to be effective 7/1/2020.

Filed Date: 10/27/20.

Accession Number: 20201027-5036.

Comments Due: 5 p.m. ET 11/17/20.

Docket Numbers: ER21-216-000.

Applicants: PJM Interconnection, L.L.C.

Description: § 205(d) Rate Filing: Original ISA, Service Agreement No. 5813; Queue No. AD2-072 to be effective 9/29/2020.

Filed Date: 10/27/20.

Accession Number: 20201027-5052.

Comments Due: 5 p.m. ET 11/17/20.

Docket Numbers: ER21-217-000.

Applicants: Citizens Sunrise Transmission LLC.

Description: Compliance filing: Order No. 864 Compliance Filing to be effective N/A.

Filed Date: 10/27/20.

Accession Number: 20201027-5078.

Comments Due: 5 p.m. ET 11/17/20.

Docket Numbers: ER21-218-000.

Applicants: Citizens Sycamore-Penasquitos Transmission LLC.

Description: Compliance filing: Order No. 864 Compliance Filing to be effective N/A.

Filed Date: 10/27/20.

Accession Number: 20201027-5081.

Comments Due: 5 p.m. ET 11/17/20.

Docket Numbers: ER21-219-000.

Applicants: Suncor Energy Marketing Inc.

Description: Baseline eTariff Filing: Suncor Energy Marketing Inc. MBR Tariff Filing to be effective 12/26/2020.

Filed Date: 10/27/20.

Accession Number: 20201027-5086.

Comments Due: 5 p.m. ET 11/17/20.

Docket Numbers: ER21-220-000.

Applicants: Citizens Sunrise Transmission LLC.

Description: § 205(d) Rate Filing: Request for Approval of Amended Tariff to be effective 1/1/2021.

Filed Date: 10/27/20.

Accession Number: 20201027-5129.

Comments Due: 5 p.m. ET 11/17/20.

Docket Numbers: ER21-221-000.

Applicants: Citizens Sycamore-Penasquitos Transmission LLC.

Description: § 205(d) Rate Filing: Annual Operating Cost True-Up Adjustment Informational to be effective 1/1/2021.

Filed Date: 10/27/20.

Accession Number: 20201027-5147.

Comments Due: 5 p.m. ET 11/17/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 27, 2020.
Nathaniel J. Davis, Sr.,
Deputy Secretary.

[FR Doc. 2020-24326 Filed 11-2-20; 8:45 am]

BILLING CODE 6717-01-P